DEPARTMENT OF AGRICULTURE

National Institute of Food and Agriculture

Notice of Intent To Extend and Revise a Previously Approved Information Collection

AGENCY: National Institute of Food and Agriculture, USDA.

ACTION: Notice and request for comments.

SUMMARY: In accordance with the Paperwork Reduction Act of 1995 and Office of Management and Budget (OMB) regulations, this notice announces the National Institute of Food and Agriculture's (NIFA) intention to extend and revise a previously approved information collection entitled “Children, Youth, and Families at Risk (CYFAR) Year End Report.”

DATES: Written comments on this notice must be received by September 11, 2023 to be assured of consideration. Comments received after that date will be considered to the extent practicable.

ADDRESSES: You may submit comments through the Federal eRulemaking Portal: https://www.regulations.gov. Follow the instructions for submitting comments.

Instructions: All comments received will be posted without change to https://www.regulations.gov, including any personal information provided.

FOR FURTHER INFORMATION CONCTACT: Laura Givens, 816-527-5379, Laura.Givens@usda.gov.

SUPPLEMENTARY INFORMATION:

Title of Collection: Children, Youth, and Families at Risk (CYFAR) Year End Report.

OMB Control Number: 0524-0043.

Expiration Date of Current Approval: 12/31/2023.

Type of Request: Notice of intent to extend and revise a previously approved information collection for three years.

Abstract: Funding for the Children, Youth, and Families at Risk (CYFAR) community project grants is authorized under section 3(d) of the Smith-Lever Act (7 U.S.C. 341 et seq.), as amended, and other relevant authorizing legislation, which provide jurisdictional basis for the establishment and operation of Extension educational work for benefit of youth and families in communities.

CYFAR funding supports community programs serving children, youth, and families in at-risk environments.

CYFAR funds are intended to support the development of high quality, effective programs based on research and to document the impact of programs on intended audiences. The CYFAR Year End Report collects demographic and impact data from each community site to conduct impact evaluations of the programs on its intended audience. The collection of information serves several purposes. It allows NIFA staff to gauge if the program is reaching the target audience and make programmatic improvements. This collection also allows program staff to demonstrate the impacts and capacity that is developed in the locales where federal assistance is provided.

The evaluation processes of CYFAR are consistent with the requirements of Congressional legislation and OMB. The Government Performance and Results Act (GPRA) of 1993 (Pub. L. 103-62), the Federal Activities Inventory Reform Act (FAIR) (Pub. L. 105-270), and the Agricultural, Research, Extension and Education Reform Act (AREERA) of 1998 (Pub. L. 105-185), together with OMB requirements, support the reporting requirements requested in this information collection. One of the five Presidential Management Agenda evaluations to be conducted to determine whether federally funded agricultural research, extension, and education programs result in public goods that have national or multi-state significance. The immediate need of this information collection is to provide a means for satisfying accountability requirements. The long-term objective is to provide a means to enable the evaluation and assessment of the effectiveness of programs receiving federal funds and to fully satisfy requirements of performance and accountability legislation in GPRA, the FAIR Act, and AREERA.

NIFA is proposing revisions to the currently approved collection. Specifically, NIFA proposes integrating new CYFAR Common Measures (survey questions) into the online CYFAR Suite Survey Builder application. The new questions will serve to consolidate participant audiences (reducing number of groups from five to three), unify measures across all programs, and link pre- and post-test survey data for reduced administrative burden. The CYFAR Suite will also improve automatic reporting by summarizing data.

Estimate of Burden: The total annual estimated burden for this information collection is 1,173 hours. This includes the time needed for participant education; survey creation and administration; data entry, aggregation, and reporting; and preparation, review, and submission of CYFAR program plans. The only respondents are not-for-profit institutions.

Estimated Number of Respondents: 51.

Estimated Number of Responses per Respondent: 1.

Estimated Burden per Response: 23 hours.

Estimated Total Annual Burden on Respondents: 1,173 hours.

Comments: Comments are invited on: (a) Whether the proposed collection of information is necessary for the proper performance of the functions of the Agency, including whether the information will have practical utility; (b) the accuracy of the Agency's estimate of the burden of the proposed collection of information; (c) ways to enhance the quality, utility, and clarity of the information to be collected; and (d) ways to minimize the burden of the collection of information on those who are to respond, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Laura Givens as directed above.

Done at Washington, DC, this day of July 7, 2023.
Dionne F. Toombs,
Associate Director for Programs, National Institute of Food and Agriculture, U.S. Department of Agriculture.

[FR Doc. 2023-14853 Filed 7-12-23; 8:45 am]

BILLING CODE 3410-22-P